DEPARTMENT OF VETERANS AFFAIRS

[OMB Control No. 2900—NEW]

Proposed Information Collection Activity: [Beneficiary Travel Mileage Reimbursement Application Form]; Comment Request

AGENCY: Veterans Health Administration, Department of Veterans Affairs.

ACTION: Notice.

SUMMARY: The Veterans Health Administration (VHA) is announcing an opportunity for public comment on the proposed collection of certain information by the agency. Under the Paperwork Reduction Act (PRA) of 1995, Federal agencies are required to publish notice in the Federal Register concerning each proposed collection of information, including each proposed revision of a currently approved collection, and allow 60 days for public comment in response to the notice. This notice solicits comments on information needed to determine mileage reimbursement to qualified Veterans or other claimants who incur expense in traveling to healthcare.

DATES: Written comments and recommendations on the proposed collection of information should be received on or before August 13, 2013.

ADDRESSES: Submit written comments on the collection of information through the Federal Docket Management System (FDMS) at www.Regulations.gov; or to Cynthia Harvey-Pryor, Veterans Health Administration (10B4), Department of Veterans Affairs, 810 Vermont Avenue NW, Washington, DC 20420 or email: cynthia.harvey-pryor@va.gov. Please refer to “OMB Control No. 2900—NEW (Beneficiary Travel Mileage Reimbursement Application Form)” in any correspondence. During the comment period, comments may be viewed online through FDMS.

FOR FURTHER INFORMATION CONTACT: Cynthia Harvey-Pryor at (202) 461-5870 or Fax (202) 495-5397.

SUPPLEMENTARY INFORMATION: Under the PRA of 1995 (Pub. L. 104-13; 44 U.S.C., 3501—3521), Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Titles: Beneficiary Travel Mileage Reimbursement Application Form, VA Form 10-3542.

OMB Control Number: 2900-NEW (Beneficiary Travel Mileage Reimbursement Application Form).

Type of Review: New data collection.

Abstract: The purpose of the information collection is for beneficiaries to apply for the beneficiary travel mileage reimbursement benefit in an efficient, convenient and accurate manner. VHA must determine the identity of the claimant, the dates and length of the trip being claimed based on addresses of starting and ending points, and whether expenses other than mileage are being claimed. The form is used only when the claimant chooses not to apply verbally and is provided for their convenience. This collection of information is necessary to enable the VHA to provide this benefit and appropriately ensure that funds are being paid to the correct claimant.

Affected Public: Individuals or Households.

Estimated Total Annual Burden: 580,000.

Estimated Average Burden per Respondent: 3 minutes.

Frequency of Response: Annually.

Estimated Number of Respondents: 11,600,000.

Dated: June 11, 2013.
By direction of the Secretary.
Crystal Rennie,
VA Clearance Officer, U.S. Department of Veterans Affairs.

[FR Doc. 2013-14176 Filed 6-13-13; 8:45 am]

BILLING CODE 8320-01-P